DEPARTMENT OF HOUSING AND URBAN DEVELOPMENT

[Docket No. FR-5681-N-28]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR Part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR Part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real; GSA: Mr. Flavio Peres, General Services Administration, Office of Real Property Utilization and Disposal, 1800 F Street NW., Room 7040, Washington, DC 20405, (202) 501-0084; Interior: Mr. Michael Wright, Acquisition & Property Management, Department of the Interior, MS-4262, 1849 C Street, Washington, DC 20240, (202)-513-079 (These are not toll-free numbers).

Dated: July 3, 2013.
Mark Johnston,
Deputy Assistant Secretary for Special Needs.

TITLE V, FEDERAL SURPLUS PROPERTY PROGRAM FEDERAL REGISTER REPORT FOR 07/12/2013

Suitable/Available Properties

Building

Virginia

Tract 30-145

Blue Ridge Parkway

Galax VA 24333

Landholding Agency: Interior

Property Number: 61201320043

Status: Excess

Directions: Ramey House 1A; House IB; Cellar; Wood Storage; Shed A; Tool Shed; Horse Shed; Shed B

Comments: off-site removal only; relocation may be difficult; 40-1,200 sf.; residential, shed; 10+ yrs. vacant; poor conditions; contamination; contact Interior for more info.

Washington

712 Records Center Printing &

Repro Plant 712B IRM

940 Northgate Dr.

Richard WA 99352

Landholding Agency: GSA

Property Number: 54201320025

Status: Excess

GSA Number: 9-B-WA-1268

Directions: Property is improved w/2 contiguous bldgs., totaling approx. 22,714 sf.; Disposal: GSA, Landholding: Energy

Comments: 22,714 sf.; storage; moderate conditions; 60+ months vacant; asbestos & lead

Land

Kentucky

Little Hurricane Island Access

Tract No. 819 & 816E, Newburgh

Locks & Dams

Owensboro KY 42301

Landholding Agency: GSA

Property Number: 54201320024

Status: Excess

GSA Number: 4-D-KY-0629

Directions: Disposal: GSA; Landholding: COE

Comments: 20.87 acres; boat ramp

Texas

Fort Worth Federal Center

501 W. Felix

Ft. Worth TX 76115

Landholding Agency: GSA

Property Number: 54201320023

Status: Surplus

GSA Number: 7-G-TX-0767-6

Comments: 0.38 acres; perpetual use easement over 100% of property; secured area; approval to access granted by City of Ft. Worth

Suitable/Unavailable Properties

Building

Oklahoma

Building 4008

6285 Hilltop Rd.

Tinker AFB OK 73145

Landholding Agency: Air Force

Property Number: 18201320085

Status: Excess

Comments: 7,767 sf.; depot operations facility; fair conditions; not available due to existing AF need

Unsuitable Properties

Building

Nebraska

Building 670

1111 West Oak Ave.

Lincoln NE 68524

Landholding Agency: Air Force

Property Number: 18201320084

Status: Unutilized

Comments: 100% of property located in floodway; floodway has not been correct or contained

Reasons: Floodway

Virginia

Tract 30-145; Ramey Shed

Blue Ridge Parkway

Galax VA 24333

Landholding Agency: Interior

Property Number: 61201320044

Status: Excess

Comments: Documented Deficiencies: Property has collapsed

Reasons: Extensive deterioration

[FR Doc. 2013-16457 Filed 7-11-13; 8:45 am]

BILLING CODE 4210-67-P